ENVIRONMENTAL PROTECTION AGENCY

[EPA-HQ-OPPT-2016-0426; FRL-9993-61]

TSCA Inventory Notification (Active-Inactive) Requirements; Availability of a Signed Action Identifying Chemical Substances for Inactive Designation

AGENCY: Environmental Protection Agency (EPA).

ACTION: Notice of availability.

SUMMARY: EPA is announcing the availability of a signed action identifying chemical substances for inactive designation according to the Toxic Substances Control Act (TSCA) Inventory Notification (Active-Inactive) Requirements rule. The signed action is a companion to the first version of the TSCA Chemical Substance Inventory with all listings designated as active or identified as inactive, which was posted on the EPA TSCA inventory web page on February 19, 2019. The signed action, dated May 6, 2019, initiates a 90-day period after which substances identified as inactive will be designated as inactive.

DATES: Inactive designations for chemical substances on the TSCA Chemical Substance Inventory are effective on Monday, August 5, 2019.

FOR FURTHER INFORMATION CONTACT: For technical information contact: Tracy Williamson, Chemistry, Economics, and Sustainable Strategies Division (Mailcode 7406M), Office of Pollution Prevention and Toxics, Environmental Protection Agency, 1200 Pennsylvania Ave. NW, Washington, DC 20460-0001; telephone number: (202) 564-8569; email address: williamson.tracy@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be affected by this action if you currently domestically manufacture, import, or process for nonexempt commercial purpose a chemical substance identified as inactive on the TSCA Chemical Substance Inventory (“TSCA Inventory”). You may also be affected by this action if you intend in the future to domestically manufacture, import, or process a chemical substance identified as inactive on the TSCA Inventory.

B. How can I get copies of this document and other related information?

The docket for this action, identified by docket identification (ID) number EPA-HQ-OPPT-2016-0426, is available online at http://www.regulations.gov or in person at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket that is available at http://www.epa.gov/dockets. You also will find related information at http://www.epa.gov/tsca-inventory.

II. Authority

As amended in June 2016, TSCA section 8(b), 15 U.S.C. 2607(b), requires that EPA designate chemical substances on the TSCA Inventory as active or inactive in U.S. commerce. TSCA section 8(b)(4) directs EPA to promulgate a rule that requires manufacturers, and may require processors, to notify EPA of each chemical substance on the TSCA Inventory that they manufactured or processed (as applicable) for a nonexempt commercial purpose during the 10-year period ending on the day before June 22, 2016. Following this retrospective reporting, EPA must designate chemical substances for which notices are received to be active substances on the TSCA Inventory and must designate chemical substances for which no notices are received to be inactive substances on the TSCA Inventory.

TSCA section 8(b) establishes a forward-looking reporting requirement that goes into effect upon EPA's designation of a chemical substance as inactive. Specifically, anyone intending to manufacture or process for a nonexempt commercial purpose a chemical substance that is designated as an inactive substance must notify EPA before the inactive substance is manufactured or processed. On receiving this forward-looking notification, EPA must designate the substance as active.

EPA implemented the TSCA section 8(b) requirements through the TSCA Inventory Notification (Active-Inactive) Requirements rule (82 FR 37520, Aug. 11, 2017) (FRL-9964-22), which established retrospective and forward-looking reporting procedures in 40 CFR part 710, subpart B. Retrospective commercial activity reporting closed on October 5, 2018. EPA subsequently compiled the first version of the TSCA Inventory with all substances either designated as active in commerce or identified as inactive in commerce.

EPA regulations at 40 CFR 710.23 provide that EPA's designation of a chemical substance as inactive becomes effective 90 days after EPA identifies the chemical substance for such designation. EPA explained in the preamble to the final rule that EPA will identify chemical substances for inactive designation in a signed action accompanying the first version of the Inventory with all finalized active-inactive listings. See 82 FR at 37525. Subject to certain exceptions, once a chemical substance is designated as inactive, any person who intends to manufacture (including import) or process that substance must submit a Notice of Activity Form B to EPA prior to such manufacturing or processing. See 40 CFR 710.25(c) and 710.30(b). EPA regulations also allow a Form B to be submitted during the 90-day period between EPA's identification of a chemical substance for inactive designation and the effective date for such designation. See 40 CFR 710.30(b)(2).

III. Notice of Inactive Designations

EPA is announcing the availability of an EPA memorandum signed on May 6, 2019. This signed action is a companion to the first version of the TSCA Inventory with all listings designated as active or identified as inactive, which was posted on the EPA TSCA Inventory web page on February 19, 2019. The TSCA Inventory can be accessed at https://www.epa.gov/tsca-inventory. The signed action is available in docket ID number EPA-HQ-OPPT-2016-0426 at http://www.regulations.gov.

The signed action initiates the 90-day period after which substances identified as inactive will be designated as inactive. Because the action was signed on May 6, 2019, inactive designations will become effective on Monday, August 5, 2019. Accordingly, the obligation described in 40 CFR 710.25(c) and 710.30(b) to submit a Notice of Activity Form B before manufacturing or processing an inactive substance will arise beginning on Monday August 5, 2019.

Authority: 15 U.S.C. 2607(b).

Dated: May 9, 2019.
Alexandra Dapolito Dunn,
Assistant Administrator, Office of Chemical Safety and Pollution Prevention.

[FR Doc. 2019-10070 Filed 5-14-19; 8:45 am]

BILLING CODE 6560-50-P